DEPARTMENT OF HEALTH AND HUMAN SERVICES

Food and Drug Administration

Veterinary Medicine Advisory Committee; Notice of Meeting

AGENCY: Food and Drug Administration, HHS.

ACTION: Notice.

This notice announces a forthcoming meeting of a public advisory committee of the Food and Drug Administration (FDA). The meeting will be open to the public.

Name of Committee: Veterinary Medicine Advisory Committee.

General Function of the Committee: To provide advice and recommendations to the agency on FDA's regulatory issues.

Date and Time: The meeting will be held on January 31, 2005, from 8 a.m. to 5:30 p.m.

Location: DoubleTree Hotel, Plaza II and III, 1750 Rockville Pike, Rockville MD.

Contact Person: Aleta Sindelar, Center for Veterinary Medicine (HFV-3), Food and Drug Administration, 7519 Standish Pl., Rockville MD 20855, 301-827-4515, or e-mail: asindela@cvm.fda.gov. Please call the FDA Advisory Committee Information Line, 1-800-741-8138 (301-443-0572 in the Washington, DC area), code 3014512548, for up-to-date information on this meeting.

Agenda: The committee will discuss and make recommendations regarding the voluntary recall of the drug product, PROHEART 6 (NADA 141-189), manufactured by Fort Dodge Animal Health. The committee will also discuss the Center for Veterinary Medicine's risk management strategy. The background material for this meeting will be posted on the Internet when available and no later than 1 business day before the meeting at http://www.fda.gov/ohrms/dockets/ac/04acdocs.htm (Scroll down to the appropriate committee link).

Procedure: Interested persons may present data, information, or views, orally or in writing, on issues pending before the committee. Written submissions may be made to the contact person by January 21, 2005. Oral presentations from the public will be scheduled between approximately 1 p.m. and 2 p.m. on January 31, 2005. Time allotted for each presentation may be limited. Those desiring to make formal oral presentations should notify the contact person by January 21, 2005, and submit a brief statement of the general nature of the evidence or arguments they wish to present, the names and addresses of proposed participants, and an indication of the approximate time requested to make their presentation.

Persons attending FDA's advisory committee meetings are advised that the agency is not responsible for providing access to electrical outlets.

FDA welcomes the attendance of the public at its advisory committee meetings and will make every effort to accommodate persons with physical disabilities or special needs. If you require special accommodations due to a disability, please contact Aleta Sindelar at least 7 days in advance of the meeting.

Notice of this meeting is given under the Federal Advisory Committee Act (5 U.S.C. app. 2).

Dated: January 11, 2005.
William K. Hubbard,
Associate Commissioner for Policy and Planning.

[FR Doc. 05-956 Filed 1-18-05; 8:45 am]

BILLING CODE 4160-01-S